ENVIRONMENTAL PROTECTION AGENCY

[EPA-HQ-OAR-2010-0410; FRL-9231-7]

Agency Information Collection Activities; Submission to OMB for Review and Approval; Comment Request; Nomination Application for the U.S. EPA Montreal Protocol Awards; EPA ICR No. 2389.01, OMB Control No. 2060-NEW

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before December 27, 2010.

ADDRESSES: Submit your comments, referencing Docket ID No. EPA-HQ-OAR-2010-0410, to (1) EPA online using http://www.regulations.gov (our preferred method), or by mail to: EPA Docket Center, Environmental Protection Agency, Air and Radiation Docket, Mail Code 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Jeremy Arling, Office of Air and Radiation, Stratospheric Protection Division (6205J), Environmental Protection Agency, 1200 Pennsylvania Ave., NW., Washington, DC 20460; telephone number: 202-343-9055; fax number: 202-343-2362; e-mail address: arling.jeremy@epa.gov.

SUPPLEMENTARY INFORMATION: EPA has submitted the following ICR to OMB for review and approval according to the procedures prescribed in 5 CFR 1320.12. On July 7, 2010 (75 FR 39012), EPA sought comments on this ICR pursuant to 5 CFR 1320.8(d). EPA received no comments. Any additional comments on this ICR should be submitted to EPA and OMB within 30 days of this notice.

EPA has established a public docket for this ICR under Docket ID No. EPA-OAR-HQ-2010-0410, which is available for online viewing at http://www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Nomination Application for the U.S. EPA Montreal Protocol Awards

ICR numbers: EPA ICR No. 2389.01, OMB Control No. 2060-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The U.S. Environmental Protection Agency (EPA) Stratospheric Protection Division established the U.S. EPA Montreal Protocol Award (USMPA) program in 1990 to recognize outstanding contributions to the protection of the Earth's stratospheric ozone layer. It is named after the international treaty that aims to reverse erosion of the ozone layer by replacing and/or phasing out the production of ozone-depleting substances (ODS). Since 1990, EPA has presented more than 500 awards to outstanding individuals, teams, companies, organizations, and government institutions in 54 countries. Awards are particularly prestigious because nominees compete globally against the accomplishments of many other potential awardees, and recipients are selected by previous awardees and EPA.

Participation in the program requires applicants (called nominees or nominators) to complete a nomination form that details the project or activity they believe is worthy of the USMPA award. EPA seeks nominations for the following accomplishments: Originality and public purpose; leadership and corporate responsibility; global perspective and implication; actual elimination of ozone-depleting substance emissions; success in eliminating substances that deplete the ozone layer and contribute to climate change or in transitioning to alternatives with reduced environmental impact; or leadership in improving awareness of the harmful health effects of overexposure to ultraviolet radiation.

Burden Statement: The annual public reporting and recordkeeping burden for this collection of information is estimated to average less than three hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action include those working in public administration; chemical manufacturing; professional, scientific and technical services; voluntary health organizations; environment, conservation and wildlife organizations; business associations; and professional organizations

Estimated Number of Respondents: 25.

Frequency of Response: Annually, occasionally.

Estimated Total Annual Hour Burden: 63.

Estimated Total Annual Cost: $2,080, which includes no annualized capital or O&M costs.

Dated: November 18, 2010.
John Moses,
Director, Collection Strategies Division.

[FR Doc. 2010-29631 Filed 11-23-10; 8:45 am]

BILLING CODE 6560-50-P